DEPARTMENT OF HEALTH AND HUMAN SERVICES

[Document Identifier: OS-4040-0002]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Mary.Tutman@hhs.gov, or call the Reports Clearance Office on (202) 690-6162. Written comments and recommendations for the proposed information collections must be received with 60-days, and directed to the Grants.gov Paperwork Clearance Officer at the above e-mail address within 60-days.

Proposed Project: SF-424 Mandatory—Revision—OMB No. 4040-0002-Grants.gov.

Abstract: These 424 mandatory forms are the government-wide forms used for mandatory grant programs. The only proposed revision to the form includes making the fax number in block 17 optional. The revised form will assist agencies in collecting required data elements through the SF-424 applications. This form could be utilized by up to 26 Federal grant making agencies with mandatory grant programs. The current 4040-0002 collection expires on July 31, 2010.

Estimated Annualized Burden Table
Agency | Number of respondents | Number of responses per respondent | Average burden per response (in hours) | Total burden hours
DOT | 300 | 1 | 1 | 300
VA | 363 | 1 | 1 | 363
Total |  |  |  | 663

Seleda M. Perryman,
Office of the Secretary, Paperwork Reduction Act Reports Clearance Officer.

[FR Doc. 2010-9655 Filed 4-26-10; 8:45 am]

BILLING CODE 4151-AE-P